DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Survey of Grant Recipients—NEW—The Office of Grants and Acquisition Management.

OGAM, in compliance with Executive Order 12862, is requesting Office of Management and Budget approval for surveys of HHS grantees to gather information on the performance of the grants management operations in the Department's Operating Divisions (OPDIVs) and their grant awarding components. These surveys will provide OGAM, the OPDIVs, and their awarding components with a necessary tool for the evaluation of the awarding components performance.

Respondents. State or local governments, businesses or other for-profit organizations, non-profit institutions, small businesses.

Annual Number of Respondents: 2,667.

Frequency of Response: Once every three years.

Average Burden per Response: 15 minutes.

Annual Burden: 667 hours.

OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW, Washington, DC 20503.

Comments may also be sent to Cynthia Agens Bauer, OS Reports Clearance Officer, Room 503H, Humphrey Building, 200 Independence Avenue SW, Washington, DC 20201. Written comments should be received within 30 days of this notice.

Dated: May 15, 2000.
Dennis P. Williams,
Deputy Assistant Secretary, Budget.

[FR Doc. 00-12946 Filed 5-22-00; 8:45 am]

BILLING CODE 4150-04-M